DEPARTMENT OF ENERGY

Federal Energy Regulatory Commission

Combined Notice of Filings #1

Take notice that the Commission received the following electric rate filings:

Docket Numbers: ER24-2613-000.

Applicants: Monongahela Power Company, PJM Interconnection, L.L.C.

Description: Refund Report: Monongahela Power Company submits tariff filing per 35.19a(b): Mon Power submits Refund Report in Docket No. ER24-2613 to be effective N/A.

Filed Date: 10/25/24.

Accession Number: 20241025-5041.

Comment Date: 5 p.m. ET 11/15/24.

Docket Numbers: ER24-2826-002.

Applicants: American Transmission Systems, Incorporated, PJM Interconnection, L.L.C.

Description: Tariff Amendment: American Transmission Systems, Incorporated submits tariff filing per 35.17(b): ATSI submits Amendment to Pending Filing of Service Agreement No. 2853 to be effective 10/31/2024.

Filed Date: 10/25/24.

Accession Number: 20241025-5029.

Comment Date: 5 p.m. ET 11/1/24.

Docket Numbers: ER24-2897-000.

Applicants: Mordor ES1 LLC.

Description: Mordor ES1 LLC submits response to FERC's request for additional information re the Application for Market-Based Rate Authority et al. filed on 08/28/2024.

Filed Date: 10/22/24.

Accession Number: 20241022-5151.

Comment Date: 5 p.m. ET 11/1/24.

Docket Numbers: ER24-2898-000.

Applicants: Mordor ES2 LLC.

Description: Mordor ES2 LLC submits response to FERC's request for additional information re the Application for Market-Based Rate Authority et al. filed on 08/28/2024.

Filed Date: 10/22/24.

Accession Number: 20241022-5154.

Comment Date: 5 p.m. ET 11/1/24.

Docket Numbers: ER25-209-000.

Applicants: Pacific Gas and Electric Company.

Description: 205(d) Rate Filing: Wholesale Distribution Tariff Rate Case 2024 (WDT4) to be effective 12/25/2024.

Filed Date: 10/25/24.

Accession Number: 20241025-5000.

Comment Date: 5 p.m. ET 11/15/24.

Docket Numbers: ER25-210-000.

Applicants: Midcontinent Independent System Operator, Inc., Michigan Electric Transmission Company, LLC.

Description: 205(d) Rate Filing: Midcontinent Independent System Operator, Inc. submits tariff filing per 35.13(a)(2)(iii: 2024-10-25_SA 4375 METC-DTE Electric Company E&P (J2877) to be effective 10/21/2024.

Filed Date: 10/25/24.

Accession Number: 20241025-5022.

Comment Date: 5 p.m. ET 11/15/24.

Docket Numbers: ER25-211-000.

Applicants: AEP Texas Inc.

Description: 205(d) Rate Filing: AEPTX-Northington Solar Generation Interconnection Agreement to be effective 10/2/2024.

Filed Date: 10/25/24.

Accession Number: 20241025-5047.

Comment Date: 5 p.m. ET 11/15/24.

Docket Numbers: ER25-212-000.

Applicants: Georgia Power Company.

Description: 205(d) Rate Filing: GPCo 2024 PBOP Filing to be effective 1/1/2024.

Filed Date: 10/25/24.

Accession Number: 20241025-5052.

Comment Date: 5 p.m. ET 11/15/24.

Docket Numbers: ER25-213-000.

Applicants: Southern Electric Generating Company.

Description: 205(d) Rate Filing: SEGCo 2024 PBOP Filing to be effective 1/1/2024.

Filed Date: 10/25/24.

Accession Number: 20241025-5053.

Comment Date: 5 p.m. ET 11/15/24.

Docket Numbers: ER25-214-000.

Applicants: Midcontinent Independent System Operator, Inc., Ameren Illinois Company.

Description: 205(d) Rate Filing: Midcontinent Independent System Operator, Inc. submits tariff filing per 35.13(a)(2)(iii: 2024-10-25_SA 3028 Ameren IL-Prairie Power Project #42 Atkinson to be effective 12/25/2024.

Filed Date: 10/25/24.

Accession Number: 20241025-5057.

Comment Date: 5 p.m. ET 11/15/24.

Docket Numbers: ER25-215-000.

Applicants: Duke Energy Carolinas, LLC.

Description: 205(d) Rate Filing: NCMPA1 RS No. 318 Amendment (2025 Confirmation) to be effective 1/1/2025.

Filed Date: 10/25/24.

Accession Number: 20241025-5062.

Comment Date: 5 p.m. ET 11/15/24.

Docket Numbers: ER25-216-000.

Applicants: Southwest Power Pool, Inc.

Description: 205(d) Rate Filing: Revisions to Clarify Language Regarding Market Storage Resources to be effective 12/31/9998.

Filed Date: 10/25/24.

Accession Number: 20241025-5086.

Comment Date: 5 p.m. ET 11/15/24.

Docket Numbers: ER25-217-000.

Applicants: Duke Energy Carolinas, LLC.

Description: 205(d) Rate Filing: DEC-NCMPA1 Revised NITSA SA No. 212 (2024) to be effective 1/1/2025.

Filed Date: 10/25/24.

Accession Number: 20241025-5090.

Comment Date: 5 p.m. ET 11/15/24.

Docket Numbers: ER25-218-000.

Applicants: San Diego Gas & Electric.

Description: 205(d) Rate Filing: 2025 TRBAA Update to be effective 1/1/2025.

Filed Date: 10/25/24.

Accession Number: 20241025-5099.

Comment Date: 5 p.m. ET 11/15/24.

Docket Numbers: ER25-219-000.

Applicants: PJM Interconnection, L.L.C.

Description: Tariff Amendment: Notice of Cancellation—WMPA Service Agreement No. 6060; Queue No. AG1-142 to be effective 12/25/2024.

Filed Date: 10/25/24.

Accession Number: 20241025-5100.

Comment Date: 5 p.m. ET 11/15/24.

Docket Numbers: ER25-220-000.

Applicants: Mid-Atlantic Interstate Transmission, LLC, Keystone Appalachian Transmission Company, PJM Interconnection, L.L.C.

Description: 205(d) Rate Filing: Mid-Atlantic Interstate Transmission, LLC submits tariff filing per 35.13(a)(2)(iii: MAIT and KATCO submits Construction Agmnts, SA No. 7211, 7169, 7174 to be effective 12/26/2024.

Filed Date: 10/25/24.

Accession Number: 20241025-5102.

Comment Date: 5 p.m. ET 11/15/24.

Docket Numbers: ER25-221-000.

Applicants: Alabama Power Company, Georgia Power Company, Mississippi Power Company.

Description: 205(d) Rate Filing: Alabama Power Company submits tariff filing per 35.13(a)(2)(iii: Talladega Solar LGIA Filing to be effective 10/15/2024.

Filed Date: 10/25/24.

Accession Number: 20241025-5106.

Comment Date: 5 p.m. ET 11/15/24.

Docket Numbers: ER25-222-000.

Applicants: Alabama Power Company, Georgia Power Company, Mississippi Power Company.

Description: Tariff Amendment: Alabama Power Company submits tariff filing per 35.15: Seminole Solar (Seminole I Solar) LGIA Termination Filing to be effective 10/25/2024.

Filed Date: 10/25/24.

Accession Number: 20241025-5107.

Comment Date: 5 p.m. ET 11/15/24.

Docket Numbers: ER25-223-000.

Applicants: Alabama Power Company, Georgia Power Company, Mississippi Power Company.

Description: Tariff Amendment: Alabama Power Company submits tariff filing per 35.15: Seminole Solar (Seminole II Solar) LGIA Termination Filing to be effective 10/25/2024.

Filed Date: 10/25/24.

Accession Number: 20241025-5108.

Comment Date: 5 p.m. ET 11/15/24.

Docket Numbers: ER25-224-000.

Applicants: Alabama Power Company, Georgia Power Company, Mississippi Power Company.

Description: Tariff Amendment: Alabama Power Company submits tariff filing per 35.15: Seminole Solar (Seminole III Solar) LGIA Termination Filing to be effective 10/25/2024.

Filed Date: 10/25/24.

Accession Number: 20241025-5110.

Comment Date: 5 p.m. ET 11/15/24.

Docket Numbers: ER25-225-000.

Applicants: Alabama Power Company, Georgia Power Company, Mississippi Power Company.

Description: Tariff Amendment: Alabama Power Company submits tariff filing per 35.15: Seminole Solar (Seminole IV Solar) LGIA Termination Filing to be effective 10/25/2024.

Filed Date: 10/25/24.

Accession Number: 20241025-5113.

Comment Date: 5 p.m. ET 11/15/24.

Docket Numbers: ER25-226-000.

Applicants: Alabama Power Company, Georgia Power Company, Mississippi Power Company.

Description: Tariff Amendment: Alabama Power Company submits tariff filing per 35.15: Seminole Solar Projects (Seminole VI Solar + BESS) LGIA Termination Filing to be effective 10/25/2024.

Filed Date: 10/25/24.

Accession Number: 20241025-5114.

Comment Date: 5 p.m. ET 11/15/24.

Docket Numbers: ER25-227-000.

Applicants: Mid-Atlantic Interstate Transmission, LLC, PJM Interconnection, L.L.C.

Description: 205(d) Rate Filing: Mid-Atlantic Interstate Transmission, LLC submits tariff filing per 35.13(a)(2)(iii: MAIT submits Construction Agmnt, SA No. 7220 to be effective 12/26/2024.

Filed Date: 10/25/24.

Accession Number: 20241025-5115.

Comment Date: 5 p.m. ET 11/15/24.

Docket Numbers: ER25-228-000.

Applicants: Citizens Sycamore-Penasquitos Transmission LLC.

Description: 205(d) Rate Filing: Annual Operating Cost True-Up Adjustment Informational Filing to be effective 1/1/2025.

Filed Date: 10/25/24.

Accession Number: 20241025-5117.

Comment Date: 5 p.m. ET 11/15/24.

Docket Numbers: ER25-229-000.

Applicants: Kuna BESS LLC.

Description: Baseline eTariff Filing: Kuna BESS LLC, MBR Tariff to be effective 12/24/2024.

Filed Date: 10/25/24.

Accession Number: 20241025-5123.

Comment Date: 5 p.m. ET 11/15/24.

Docket Numbers: ER25-230-000.

Applicants: Midcontinent Independent System Operator, Inc., Northern States Power Company, a Minnesota corporation.

Description: 205(d) Rate Filing: Midcontinent Independent System Operator, Inc. submits tariff filing per 35.13(a)(2)(iii: 2024-10-25_SA 2420 NSPM-CapX Brookings Owners 1st Rev T-T to be effective 9/27/2024.

Filed Date: 10/25/24.

Accession Number: 20241025-5124.

Comment Date: 5 p.m. ET 11/15/24.

Docket Numbers: ER25-231-000.

Applicants: Citizens Sunrise Transmission LLC.

Description: 205(d) Rate Filing: Annual Operating Cost True-Up Adjustment Informational Filing to be effective 1/1/2025.

Filed Date: 10/25/24.

Accession Number: 20241025-5131.

Comment Date: 5 p.m. ET 11/15/24.

Docket Numbers: ER25-232-000.

Applicants: Otter Tail Power Company.

Description: 205(d) Rate Filing: Revisions to Operating Services Agreement with CPEC, Service Agreement No. 54 to be effective 1/1/2025.

Filed Date: 10/25/24.

Accession Number: 20241025-5146.

Comment Date: 5 p.m. ET 11/15/24.

Docket Numbers: ER25-233-000.

Applicants: Duke Energy Carolinas, LLC.

Description: 205(d) Rate Filing: DEC-NCMPA1 DTAs RS Nos. 643, 644 and 645 to be effective 1/1/2025.

Filed Date: 10/25/24.

Accession Number: 20241025-5159.

Comment Date: 5 p.m. ET 11/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 25, 2024.
Debbie-Anne A. Reese,
Secretary.

[FR Doc. 2024-25435 Filed 10-31-24; 8:45 am]

BILLING CODE 6717-01-P